DEPARTMENT OF THE INTERIOR

Geological Survey

[GX17GG00996TR00]

Notice of Public Meeting of National Earthquake Prediction Evaluation Council

AGENCY: U.S. Geological Survey, Department of the Interior.

ACTION: Notice.

SUMMARY: Pursuant to Public Law 106-503, the National Earthquake Prediction Evaluation Council (NEPEC) will hold its next meeting at the Graduate Berkeley, 2600 Durant Ave., Berkeley, California, in the California Room. The Council is composed of members from academia, industry, and State government. The Council shall advise the Director of the U.S. Geological Survey (USGS) on matters relating to the USGS's participation in the National Earthquake Hazards Reduction Program.

At the meeting, the Council will receive briefings and updates on improved methods for calculating aftershock probabilities and spatiotemporal aftershock forecasts, and consider the readiness of such calculations as the basis of operational forecast products. The Council will also be briefed on development of the UCERF3-ETAS earthquake rupture forecast model; results from a workshop on potential uses for operational earthquake forecasts; and recommendations for effective communication of earthquake science information during times of heightened concern in the Pacific Northwest.

DATES: October 16-17, 2017, commencing no earlier than 1:00 p.m. on the first day and adjourning no later than 5:00 p.m. on the second day. Guests should check with Dr. Michael Blanpied (see contact below) for any late-breaking changes.

SUPPLEMENTARY INFORMATION: Meetings of the National Earthquake Prediction Evaluation Council are open to the public. A draft meeting agenda is available upon request from the Executive Secretary (contact information below). In order to ensure sufficient seating and handouts, it is requested that visitors preregister by October 6. Members of the public wishing to make a statement to the Council should provide notice of that intention by October 6 so that time may be allotted on the agenda. A meeting summary will be posted by November 30 to the committee Web site: http://earthquake.usgs.gov/aboutus/nepec/.

Public Disclosure: Before including your address, phone, number, email address, or other personal identifying information in your comment, you should be aware that your entire comment—including your personal identifying information—may be made publicly available at any time. While you can ask us in your comment to withhold your personal identifying information from public review, we cannot guarantee that we will be able to do so.

Contact: Dr. Michael Blanpied, U.S. Geological Survey, MS 905, 12201 Sunrise Valley Drive, Reston, Virginia 20192, (703) 648-6696, mblanpied@usgs.gov.

Michael Blanpied,
Associate Coordinator, USGS Earthquake Hazards Program.

[FR Doc. 2017-20503 Filed 9-25-17; 8:45 am]

BILLING CODE 4338-11-P